DEPARTMENT OF AGRICULTURE

Agriculture Marketing Service

7 CFR Part 1206

[Document Number AMS-FV-14-0047]

Mango Promotion, Research, and Information Order; Section 610 Review

AGENCY: Agricultural Marketing Service, Department of Agriculture.

ACTION: Notice of regulatory review and request for comments.

SUMMARY: This document announces the Agricultural Marketing Service's (AMS) plans to review the Mango Promotion, Research, and Information Order (Order). The review will be conducted under criteria contained in Section 610 of the Regulatory Flexibility Act (RFA).

DATES: Comments must be received by August 19, 2014.

ADDRESSES: Interested persons are invited to submit written comments concerning this notice. Comments may be submitted on the Internet at: http://www.regulations.gov or to the Promotion and Economics Division, Fruit and Vegetable Program, AMS, USDA, 1400 Independence Avenue SW., Room 1406-S, Stop 0244, Washington, DC 20250-0244; facsimile: (202) 205-2800. All comments should reference the document number and the date and page number of this issue of the Federal Register and will be made available for public inspection, including name and address, if provided, in the above office during regular business hours or it can be viewed at http://www.regulations.gov.

FOR FURTHER INFORMATION CONTACT: Jeanette Palmer, Marketing Specialist, Promotion and Economics Division, Fruit and Vegetable Program, AMS, USDA, 1400 Independence Avenue SW., Room 1406-S, Stop 0244, Washington, DC 20250-0244; telephone: (202) 720-9915; facsimile (202) 205-2800; or electronic mail: Jeanette.Palmer@ams.usda.gov.

SUPPLEMENTARY INFORMATION: The Order (7 CFR part 1206) is authorized under the Commodity Promotion, Research, and Information Act of 1996 (Act) (7 U.S.C. 7411-7425).

The Order became effective on November 3, 2004. It is administered by the National Mango Board (Board) with oversight by the U.S. Department of Agriculture (USDA). The program is financed by an assessment of three quarters of a cent per pound on first handlers and importers of 500,000 pounds or more of mangos annually. The Order specifies that first handlers are responsible for submitting assessments to the Board on a monthly basis and maintaining records necessary to verify their reporting. Importers are responsible for paying assessments on mangos imported for consumption in the United States through the U.S. Customs and Border Protection. The purpose of the Order is to carry out an effective, continuous, and coordinated program of promotion, research, and information designed to strengthen mangos' competitive position, and to maintain and expand the domestic market for mangos.

The Board is composed of 18 members as follows: 8 Importers; 2 domestic producers; 1 first handler; and 7 foreign producers. Nominations for importer, domestic producer, and first handler members are solicited by importers, domestic producers, and first handlers, respectively. Nominations for foreign producer members are solicited from foreign producers and foreign producer associations. Members are appointed to the Board by the Secretary of Agriculture and serve a term of three years.

The AMS published in the Federal Register on March 24, 2006, (71 FR 14827) its plan to review certain regulations, including the mango program, under criteria contained in section 610 of the RFA (5 U.S.C. 601-612). Because many AMS regulations impact small entities, AMS decided, as a matter of policy, to review certain regulations which, although they may not meet the threshold requirement under section 610 of the RFA, warrant review. According to the schedule published in 2006, this notice and request for comments is made for the Order.

The purpose of the review is to determine whether the Order should be continued without change, amended, or rescinded (consistent with the objectives of the Act) to minimize the impacts on small entities. AMS will consider the following factors: (1) The continued need for the Order; (2) the nature of complaints or comments received from the public concerning the Order; (3) the complexity of the Order; (4) the extent to which the Order overlaps, duplicates, or conflicts with other Federal rules, and, to the extent feasible, with State and local regulations; and (5) the length of time since the Order has been evaluated or the degree to which technology, economic conditions, or other factors have changed in the area affected by the Order.

Written comments, views, opinions, and other information regarding the Order's impact on small businesses are invited.

Dated: June 16, 2014.
Rex A. Barnes,
Associate Administrator.

[FR Doc. 2014-14398 Filed 6-19-14; 8:45 am]

BILLING CODE 3410-02-P